DEPARTMENT OF THE INTERIOR

National Park Service

Cape Cod National Seashore Hunting Program, Final Environmental Impact Statement, Cape Cod National Seashore, MA

AGENCY: National Park Service, Department of Interior.

ACTION: Notice of availability of the Final Environmental Impact Statement for the Cape Cod National Seashore Hunting Program, Cape Cod National Seashore.

SUMMARY: Pursuant to the National Environmental Policy Act of 1969, 42 U.S.C. 4332(2)(C), the National Park Services (NPS) announces the availability of a Final Environmental Impact Statement (FEIS) for the Cape Cod National Seashore Hunting Program, Cape Cod National Seashore (CCNS), Massachusetts. The purpose of the FEIS is to finalize the documentation of the environmental consequences of alternative strategies for managing hunting at CCNS.

The FEIS evaluates three (3) alternatives for managing hunting:

Alternative A—No Action describes the effects of continuing the hunting program as it was prior to a court decision to enjoin the pheasant stocking and hunting program. Hunting would continue in accordance with the seasons and regulations established by the Massachusetts Division of Fisheries and Wildlife (MDFW), and in accordance with the existing rules established by Cape Cod National Seashore pertaining to the time of year hunting is allowed, the species that can be hunted, and no-hunting zones. Under this alternative, the pheasant hunting and stocking program would be re-established.

Alternative B—Develop a Modified Hunting Program (the preferred alternative) describes the effects of modifying the hunting program in a manner that would retain hunting as part of CCNS's cultural heritage while addressing concerns raised by non-hunting visitors. The modifications were derived from input received during public scoping, and subsequently refined based on comments on the Draft EIS.

Element 1: This element would increase traditional hunting opportunities for native upland game bird species. Specifically, the park's rules would be revised to allow the State's spring eastern turkey hunt to occur within the park. Additionally, this element would include developing and implementing cultural landscape restoration activities that are expected to improve habitat quality for upland game birds, particularly northern bobwhite quail.

Element 2: An adaptive management approach would be used to phase out the pheasant stocking and hunting program as opportunities to hunt native upland game birds increase. The success of heathland and grassland management, called for by the cultural restoration plan, will be used as an indicator of native species hunting opportunity. This element would result in the end of pheasant stocking and hunting at CCNS within 14 to 17 years. In no case will pheasant stocking continue beyond 17 years.

Element 3: This element would simplify the scope of hunting areas, and would designate hunting-permitted areas versus the current policy which allows hunting in all areas except where specifically prohibited. The hunting-permitted areas would be delineated based on the existing 500-foot no-hunting buffers around paved roads and buildings, expanding the no-hunting buffers around bicycle paths from 150 feet to 500 feet, and eliminating the small patches and thin slivers of area that cannot practicably be hunted. This element would provide an added safety precaution protective of visitors using the bike paths; should result in more predictable areas where hunting is likely to be encountered and where it will not; would provide consistent buffers for hunting set-backs from roads, buildings, and bike paths; would facilitate more efficient monitoring by law enforcement staff; and would result in little reduction in hunting opportunities.

Element 4: Hunting-related outreach to hunting and non-hunting users would be expanded. Outreach to non-hunting visitors would focus on where and when hunting occurs in the park, where visitors can go to avoid hunting, safety precautions when in or adjacent to hunting areas, how to report any unlawful behavior or safety concerns, and the importance of courteous and respectful behavior to all users. Outreach to hunters would also focus on where and when hunting is permitted in the park, hunting regulations, how to report any unlawful behavior or safety concerns, and the importance of courteous and respectful behavior to all users.

Element 5: This element provides for cooperative and expanded game species monitoring by Cape Cod National Seashore and the Massachusetts Division of Fisheries and Wildlife. The Seashore and the Division of Fisheries and Wildlife would integrate monitoring efforts, and seek additional resources as needed, to expand monitoring of the abundance and harvest of deer, eastern cottontail rabbits, eastern wild turkeys, and northern bobwhite quail. These agencies would also coordinate with the U.S. Fish and Wildlife Service to review emerging information on the status and distribution of New England cottontail rabbits on outer Cape Cod, and determine if action is necessary to protect this sensitive species within the Seashore.

Alternative C—Eliminate Hunting describes the effects of eliminating hunting at Cape Cod National Seashore. A sub-element of Alternative C would eliminate only the pheasant program while retaining the other aspects of the hunting program.

In April of 2006, the NPS issued a Draft EIS for agency and public review and comment. The comment period opened on April 21, 2006 with the Environmental Protection Agency's (EPA) publication of a Notice of Availability in the Federal Register, and closed on June 19, 2006, 60 days later. During that review period the NPS held two public meetings to provide agencies and the public the opportunity to provide oral comment on the draft document. Comments were received in the form of letters and e-mails, and at the two public meetings. All substantive comments have been addressed in the “Consultation and Coordination” chapter of the FEIS.

DATES: The National Park Service will execute a Record of Decision (ROD) no sooner than 30 days following publication in the Federal Register by EPA of availability of the Final Environmental Impact Statement. Availability of the ROD will be noticed in the Federal Register by the NPS and implementation of the selected alternative will subsequently move forward.

ADDRESSES: The FEIS may be viewed online at http://www.nps.gov/caco/parkmgmt/planning.htm through the “Planning” link under “Management”. The FEIS will be available in hard copy at outer cape libraries, the Salt Pond and Province Lands Visitors Centers, and Cape Cod National Seashore's Marconi headquarters building for onsite review.

FOR FURTHER INFORMATION CONTACT: Superintendent, Cape Cod National Seashore, 99 Marconi Site Road, Wellfleet, Massachusetts 02667. Telephone: (508) 349-3785, Fax: (508) 349-9052.

Dated: July 18, 2007.
John A. Latschar,
Acting Regional Director, Northeast Region, National Park Service.

[FR Doc. E7-15295 Filed 8-6-07; 8:45 am]

BILLING CODE 4310-WV-P